SMALL BUSINESS ADMINISTRATION

[Declaration of Disaster #3632]

Commonwealth of Pennsylvania; Amendment #3

In accordance with notices received from the Department of Homeland Security—Federal Emergency Management Agency—effective October 1 and October 8, 2004, the above numbered declaration is hereby amended to establish the incident period for this disaster as beginning September 17, 2004 and continuing through October 1, 2004. This declaration is also amended to include Chester, Crawford, Delaware, Lawrence, Montgomery, Philadelphia, Somerset, and Sullivan counties as disaster areas due to damages caused by Tropical Depression Ivan. In addition, applications for economic injury loans from small businesses located in the contiguous counties of Erie and Warren in the Commonwealth of Pennsylvania; New Castle County in the State of Delaware; Cecil and Garrett Counties in the State of Maryland; Camden and Gloucester Counties in the State of New Jersey; and Ashtabula, Mahoning, and Trumbull Counties in the State of Ohio may be filed until the specified date at the previously designated location. All other counties contiguous to the above named primary counties have previously been declared. The economic injury number assigned to Delaware is 9AF100.

All other information remains the same, i.e., the deadline for filing applications for physical damage is November 18, 2004 and for economic injury the deadline is June 20, 2005.

(Catalog of Federal Domestic Assistance Program Nos. 59002 and 59008)
Dated: October 13, 2004.
Cheri L. Cannon,
Acting Associate Administrator for Disaster Assistance.

[FR Doc. 04-23401 Filed 10-18-04; 8:45 am]

BILLING CODE 8025-01-P